DEPARTMENT OF HEALTH AND HUMAN SERVICES

Office of Inspector General

Program Exclusions: July 2002

AGENCY: Office of Inspector General, HHS.

ACTION: Notice of program exclusions.

During the month of July 2002, the HHS Office of Inspector General imposed exclusions in the cases set forth below. When an exclusions is imposed, no program payment is made to anyone for any items or services (other than an emergency item or service not provided in a hospital emergency room) furnished, ordered or prescribed by an excluded party under the Medicare, Medicaid, and all Federal Health Care programs. In addition, no program payment is made to any business or facility, e.g., a hospital, that submits bills for payment for items or services provided by an excluded party. Program beneficiaries remain free to decide for themselves whether they will continue to use the services of an excluded party even though no program payments will be made for items and services provided by that excluded party. The exclusions have national effect and also apply to all Executive Branch procurement and non-procurement programs and activities.

Subject City, State | Effective Date
Program-Related Convictions
Agazarian, Stepan, Los Angeles, CA | 08/20/2002
Bahamon, Ramiro, Colton, CA | 08/20/2002
Barton, Lupe Eva, Lake Forest, CA | 08/20/2002
Brooks-McArthur, Pamela, Detroit, MI | 08/20/2002
Bufkin, Anthony L, Kingstree, SC | 08/20/2002
Burks, Louis, Clythe, CA | 08/20/2002
Butcher, Holly W, The Colony, TX | 08/20/2002
Butt, Audrey Renee, Iowa City, IA | 08/20/2002
Candelaria, Christina Marie, Wheat Ridge, CO | 08/20/2002
Cummings, Patricia Ann, Holbrook, AZ | 08/20/2002
Devera, Monica T, Dumont, NJ | 08/20/2002
Diaz, Jesus, Miami, FL | 08/20/2002
Dotson, Janice, Branch, AR | 08/20/2002
Foster, Donald Edgar, Nashville, TN | 08/20/2002
Garcia, Eduardo, Los Angeles, CA | 08/20/2002
Gonzalez, Ana Rosa, Miami, FL | 04/10/2001
Harris, Shawanda, Miami, FL | 08/20/2002
Hart, Jimmy Willis, Memphis, TN | 08/20/2002
Hawkinberry, Cynthia L, Wakeman, OH | 08/20/2002
Hudson, Paul Edward, Sacramento, CA | 08/20/2002
Huff, Deanna Rachelle, Detroit, MI | 08/20/2002
Jimenez, Aurelio, P, Oxford, WI | 08/20/2002
Jones, Shirley A, Ft Worth, TX | 08/20/2002
Jones, Steven L, Big Spring, TX | 08/20/2002
Krayzman, Boris, Encino, CA | 08/20/2002
Lewis, Terry Lamond, Rialto, CA | 08/20/2002
Luna, Javier, Corona, CA | 08/20/2002
Maye, Rose Mary, Laurel, MS | 08/20/2002
Mayo, Kevin Allen, Morgantown, WV | 08/20/2002
Meyers, Carliss R, Box Elder, SD | 08/20/2002
Nelson, David S, Winston-Salem, NC | 04/16/2001
Rector, Joel M, New York, NY | 08/20/2002
Renick, John T, Lynn Haven, FL | 08/20/2002
Riazi, Ali Motamed, Beverly Hills, CA | 08/20/2002
Rohar, Lynette Mae, San Bernardino, CA | 08/20/2002
Sell, Mary R, Troy, MO | 08/20/2002
Sharpe, Mark J, Hardwick, GA | 08/20/2002
Sill, Burnie Lee, Cedaredge, CO | 08/20/2002
Sternat, Michelle Marie, Mt Union, IA | 08/20/2002
Stoltzfus, Warren, Lewisville, TX | 08/20/2002
Suarez, Luis Ramon, Miami, FL | 08/20/2002
Sudaria, Nicanor C, Anchorage, AK | 08/20/2002
Tekeian, Gohar, Los Angeles, CA | 08/20/2002
Thompson, Lisa, Pine Bluff, AR | 08/20/2002
Trotter, Mary, Rochester, NY | 08/20/2002
Vaughn, John L, Knoxville, TN | 08/20/2002
Vega, Armando Richard, Elkton, OH | 08/20/2002
Wahba, Samuel, Palm Harbor, FL | 08/20/2002
Walker, Robert D, Pewee Valley, KY | 08/20/2002
Wallace, Linda C, Lebanon, OH | 08/20/2002
Ward, Douglas Austin, Lancaster, CA | 08/20/2002
Wilson-Zupa, Karen, Houston, TX | 08/20/2002
Woo, Yu Moon, Elmhurst, NY | 08/20/2002
Woods, Brenda Joyce, Sacramento, CA | 08/20/2002
Felony Conviction for Health Care Fraud
Allen, Derlyn G, Tampa, FL | 08/20/2002
Concessi, Michael J, Goldsboro, NC | 08/20/2002
Foster, Jack Randall, Springfield, MO | 08/20/2002
Healthwise Medical Rehab Ctrs, Chesapeake, VA | 08/20/2002
Hemphill, Robert, Saginaw, MI | 08/20/2002
Schape-Self, Rosemarie Susanne, Spokane, WA | 08/20/2002
Seals, Inez J, Pikeville, TN | 08/20/2002
Silvino, Emmanuel, San Antonio, TX | 08/20/2002
Spatz, Marvin Charles, San Diego, CA | 08/20/2002
Spatz, Marvin Charles, San Diego, CA | 08/20/2002
Spatz, Marvin Charles, San Diego, CA | 08/20/2002
Stock, Rodolpho K, Charleston, WV | 08/20/2002
Vavilikolanu, Sheshiqiri Rao, Terre Haute, IN | 08/20/2002
Wood, Faye W, Princeton, NJ | 08/20/2002
Felony Control Substance Conviction
Arellano, Teresa Marie, San Francisco, CA | 08/20/2002
Borne, Maxie Joseph, Las Vegas, NV | 08/20/2002
Fisher, Robin Noel, Marshalltown, IA | 08/20/2002
Gaskins, Shawna Gail, Gatesville, TX | 08/20/2002
Gibson, Pamela Gaynelle, Jonesville, VA | 08/20/2002
Harrell, Pamela L, Katy, TX | 08/20/2002
Jorgensen, Bruce Craig, Clinton, UT | 08/20/2002
Morris, Craig Alan, Lakewood, CO | 08/20/2002
Osler, Karen Ann, Malvern, IA | 08/20/2002
Pizarro, Michelle Linn, Sioux City, IA | 08/20/2002
Rohaus, Robert, Bridgewater, NJ | 08/20/2002
Scott, Dona Lee, Southfield, MI | 08/20/2002
Patient Abuse/Neglect Convictions
Akaya, Nicodemus Ichabu, Los Angeles, CA | 08/20/2002
Alger, Tony L, Worcester, VT | 08/20/2002
Andres, Gilbert Tamayo, Corcoran, CA | 08/20/2002
Bratcher, Louis, Fresno, CA | 08/20/2002
Cianci, Marilyn I, Monroe, NY | 08/20/2002
Courtyard Manor Farmington Hill, Walled Lake, MI | 08/20/2002
Darlington, Casey Shawn, Rock Springs, WY | 08/20/2002
Dennis, Tammye Lynn, Stillwater, OK | 08/20/2002
Doran, Faith L, Syracuse, NY | 08/20/2002
Edwards, Lorna F, Bronx, NY | 08/20/2002
Eltringham, Teresa Ann, St Mary's, WV | 08/20/2002
Gardner, Darrell, Bakersfield, CA | 08/20/2002
Goldstein, Seymour, Wilmington, DE | 08/20/2002
Gorondy, Larry Joe, Gunther, TX | 08/20/2002
Hampton, Yolanda V, Kingfisher, OK | 08/20/2002
Herring, Gary Jr, Youngstown, OH | 08/20/2002
Hildebrand, John Francis, Elk Grove, CA | 08/20/2002
Hoskins, Valerie Lynn, Somerset, KY | 08/20/2002
Houston, Vivian Shunn, Clarendon, AR | 08/20/2002
Ingold, William Alan, Searcy, AR | 08/20/2002
Joiner, Elizabeth Rodriguez, Lovell, WY | 08/20/2002
Jones, Rosalie S, Galatia, IL | 08/20/2002
Leodones, Jeffrey Domingo, Represa, CA | 08/20/2002
Lewis, Jerry D, Millington, TN | 08/20/2002
Manns, Carl, Arlington, TN | 08/20/2002
McCarthy, Michael J, Everett, WA | 08/20/2002
McCulley, Willie, Oakland, TN | 08/20/2002
McDougle, Carl, Memphis, TN | 08/20/2002
McGillen, James W, Harwich, MA | 08/20/2002
McLemore, Alma Abeyta, Concord, CA | 08/20/2002
Mohammed, Idris G, Sacramento, CA | 08/20/2002
Resvaloso, Robert Kenneth, Fresno, CA | 08/20/2002
Sarabia, Epifanio Fierro, FT Stockton, TX | 08/20/2002
Tafoya, Robert Anthony, Santa Cruz, CA | 08/20/2002
Truitt, Eve P, Jonesboro, AR | 08/20/2002
Wannamaker, Julie, Albion, NY | 08/20/2002
Zherebnyuk, Nokolay, Sacramento, CA | 08/20/2002
Conviction For Health Care Fraud
Durham, Rebecca, Elkin, SC | 08/20/2002
Conviction-Obstruction of an Investigation
Reyes, Patricia Yvonne, El Paso, TX | 08/20/2002
Controlled Substance Convictions
Crespo, Lucinda, Schuyler Falls, NY | 08/20/2002
License Revocation/Suspension/Surrendered
Adkins, Darryel Lewis, San Antonio, TX | 08/20/2002
Adkins, Tammy G, Mount Pleasant, PA | 08/20/2002
Aucoin, Byron L, Morgan City, LA | 08/20/2002
Avery, Thomas Andrew, Shawnee, OK | 08/20/2002
Ballard, Charisse Camille, Cabot, AR | 08/20/2002
Barbour, Angela L, Martinsville, VA | 08/20/2002
Barkhurst, Jennifer L, Richmond, VA | 08/20/2002
Beardsley, Major J, Elba, NY | 08/20/2002
Behan, Kevin M, Poestenkill, NY | 08/20/2002
Berkenpas, Sandra S, Salt Lake City, UT | 08/20/2002
Beyrer, Robert Norval, Spring Valley, CA | 08/20/2002
Bibawy, Adly Anis, Staten Island, NY | 08/20/2002
Bizub, Madeline C, Biloxi, MS | 08/20/2002
Blevins, Donna Lorraine, Grass Valley, CA | 08/20/2002
Bockover, Carol Frizzell, Salisbury, MD | 08/20/2002
Boesker, Debra S, Hutchinson, KS | 08/20/2002
Bowcutt, Timothy Earl, Tremonton, UT | 08/20/2002
Bowes, Peter Joseph, Milwaukee, WI | 08/20/2002
Bowick, Judy C, Asbury Park, NJ | 08/20/2002
Branson, Cindy Kay, Hutchinson, KS | 08/20/2002
Braswell, Bonni J, Alexandria, VA | 08/20/2002
Bressickello, John Antony, Torrance, CA | 08/20/2002
Brodsky, Ted Marc, Granada Hills, CA | 08/20/2002
Brown, Elizabeth Ann, Oxnard, CA | 08/20/2002
Bryant, Sara J, St Johnsbury, VT | 08/20/2002
Buchanan, Darren Patrick, Moneton NB, Canada, | 08/20/2002
Buckner, Michael O, Knoxville, TN | 08/20/2002
Byrnes, Robert L, Cortlandt Manor, NY | 08/20/2002
Carson, Stephen L, Fall River, MA | 08/20/2002
Castro, Lisa Y, Des Plaines, IL | 08/20/2002
Caulker, Alex, Alexandria, VA | 08/20/2002
Cerny, Michael David, Rushville, NE | 08/20/2002
Chickos, Lawrence Edward, Gilroy, CA | 08/20/2002
Clack, John Steven, Culver City, CA | 08/20/2002
Clark, Illetha, Gautier, MS | 08/20/2002
Clemens, Scott E, Pittsburgh, PA | 08/20/2002
Colbert, Elizabeth R, Phoenix, AZ | 08/20/2002
Comeaux, Gary Wayne, League City, TX | 08/20/2002
Cook, Rosemary, Phoenix, AZ | 08/20/2002
Cookson, Linda J, Fairfield, ME | 08/20/2002
Cooper, William James, Monte Vista, CO | 08/20/2002
D'Agostino Cox, Elizabeth A, West Haven, CT | 08/20/2002
Daberkow, Glendene Helena, West Point, NE | 08/20/2002
Datta, Jagat Kumar, Streamwood, IL | 08/20/2002
Debouvier, Jude J, Fayetteville, NC | 08/20/2002
Devore, Mary Davis, Phoenix, AZ | 08/20/2002
Diamandis, Sotiris P, Canton, MA | 08/20/2002
Dorman, Courtney Dawn, Clarendon, AR | 08/20/2002
Dziedzic, David M, McHenry, IL | 08/20/2002
Elium, Kevin, Porterville, CA | 08/20/2002
Elizalde, Christian, Canoga Park, CA | 08/20/2002
Elliott, Roger K, Newark, OH | 08/20/2002
Eustaquio, Marcos Antonio, Woodhaven, NY | 08/20/2002
Farrar, Cynthia, E Rockaway, NY | 08/20/2002
Ferebee, Sandra Kaye, Poplar Grove, AR | 08/20/2002
Foster, Robert W, Henrico, NC | 08/20/2002
Foust, Martha Louise, Lacrosse, KS | 08/20/2002
Frigon, Lisa M, Barre, VT | 08/20/2002
Frost, Glenda S, Glendale, AZ | 08/20/2002
Garcia, Eric Patrick, Carmichael, CA | 08/20/2002
Garcia, Patricia Ann, McQueeney, TX | 08/20/2002
Garcia, Omar Rene, Waco, TX | 08/20/2002
Garcia, Victor M, Eagle Pass, TX | 08/20/2002
Gardea, Teresa Marie, Pomona, CA | 08/20/2002
Geraci, Caroline Elizabeth, Cincinnati, OH | 08/20/2002
Gilbert, Christina, Massapequa, NY | 08/20/2002
Ginnetti, John M, New Haven, CT | 08/20/2002
Glaenzer, James M, St Charles, MO | 08/20/2002
Godfrey, Susanne B, Columbia, SC | 08/20/2002
Gonzalez, Guillermo F, Rancho Cucamonga, CA | 08/20/2002
Gopalani, Hanif A, Crownsville, MD | 08/20/2002
Gover, Marshall, Baton Rouge, LA | 08/20/2002
Gowen, Laura, Hatfield, PA | 08/20/2002
Greco, Michael Richard, Roy, UT | 08/20/2002
Greene, Michael T, Erie, PA | 08/20/2002
Griffin, Bridget R, W Topsham, VT | 08/20/2002
Groehn, Craig Alan, Ames, IA | 08/20/2002
Gryder, Sheila Lynn, McCamey, TX | 08/20/2002
Guyton, Kathleen, E Orange, NJ | 08/20/2002
Hall, Joan M, Cheshire, CT | 08/20/2002
Hambrick, Maureen L, Chicago, IL | 08/20/2002
Hamon, Eric Wayne, Sebring, OH | 08/20/2002
Harlan, Olivia, Fairbury, NE | 08/20/2002
Harmon, David Russell, Steamboat Springs, CO | 08/20/2002
Harper, Elayne Woodall, Culpepper, VA | 08/20/2002
Haynie, Craig A, Victoria, TX | 08/20/2002
Heckler, Sheri Lynn, Lancaster, PA | 08/20/2002
Hiller, Donald John, Tempe, AZ | 08/20/2002
Holcombe, Donna, Farmington, NM | 08/20/2002
Holmberg, Melissa, Richmond, VA | 08/20/2002
Holmes, Wanda Jean, Richford, VT | 08/20/2002
Householder, Sharon, Mckeesport, PA | 08/20/2002
Humphreys, Jessica N, York, PA | 08/20/2002
Hysell, Connie Sue, Shelbyville, IL | 08/20/2002
Incelli, Jade Thomas, Levittown, PA | 08/20/2002
Ingram, Fannie, Oakdale, LA | 08/20/2002
Johnson, Diana Lee, Trinity, TX | 08/20/2002
Johnson, Alfred Lane, Boaz, AL | 08/20/2002
Johnson, Benjamin Taylor, Golden, CO | 08/20/2002
Jones, Veronica L, Morton, MS | 08/20/2002
Jones, Cynthia R, Manahawkin, NJ | 08/20/2002
Juliano, Linda, Bear, DE | 08/20/2002
Ketchale, Joel F, Enfield, CT | 08/20/2002
Khaleq, Tory Renee, Houston, TX | 08/20/2002
Khan, Farhad Parvez, Simi Valley, CA | 08/20/2002
Kirby, Yvonne Edna, Las Vegas, NV | 08/20/2002
Klemm, Joanne Marie, Clear Lake, IA | 08/20/2002
Kohout, Mary Christine, Nebraska City, NE | 08/20/2002
Koory, Christine Lynn, Omaha, NE | 08/20/2002
Kordich, Patricia Louise, Azusa, CA | 08/20/2002
Kube, Jean Carol, St Paul, MN | 08/20/2002
Kunkel, Jon R, Hanover Park, IL | 08/20/2002
Kwak, Noik, Astoria, NY | 08/20/2002
Leach, David M, Newtown, PA | 08/20/2002
Leary, Kenneth, E Greenwich, RI | 08/20/2002
Leblanc, Melissa, Prairieville, LA | 08/20/2002
Lemon, Karmen L, Denver, CO | 08/20/2002
Lewis, Arthur Stephen, Goshen, IN | 08/20/2002
Lynn, Jerry Harold, New York, NY | 08/20/2002
Mabry, Linda L, Phoenix, AZ | 08/20/2002
Maloney, Donna H, West Seneca, NY | 08/20/2002
Matlock, John Edward, Chino Valley, AZ | 08/20/2002
Maynard, Royce, Abilene, TX | 08/20/2002
McBride, Darla Gay, Kilgore, TX | 08/20/2002
McColm, Paula Jeanette, Long Beach, CA | 08/20/2002
McHattie, Sheila Seybert, Portersville, PA | 08/20/2002
McKinney-Reynolds, Beverly, Alta Loma, CA | 08/20/2002
McManus, Kathleen M, Jenkintown, PA | 08/20/2002
Merica, Sandra Rose, Fairbanks, AK | 08/20/2002
Miesel, Patricia J, Eighty Four, PA | 08/20/2002
Miller, Debra Renee, Sandpoint, ID | 08/20/2002
Mitchell, Elvin, Fullerton, CA | 08/20/2002
Moore, Rebecca Jay, Luling, TX | 08/20/2002
Myers, Cindy L, Sandpoint, ID | 08/20/2002
Myers, Phyllis June, Elkhart, IN | 08/20/2002
Nicholson, Robert J Jr, Baton Rouge, LA | 08/20/2002
Noel, Linda Sue, Chicago, IL | 08/20/2002
Nygren, Jerry Eugene, York, NE | 08/20/2002
O'Keefe, Gregory III, Little Falls, NY | 08/20/2002
O'Leary, Mary Bernadette, South Bend, IN | 08/20/2002
O'Neil, Jerri Lynn, Dayton, TX | 08/20/2002
Oliver, Christine P, Selden, NY | 08/20/2002
Ori, Vincent Egido, Fair Oaks, CA | 08/20/2002
Pape, Beverly J, East Calais, VT | 08/20/2002
Paredez, Jude, Beaumont, TX | 08/20/2002
Park, John H, Flushing, NY | 08/20/2002
Passell, Carlene Ann, Lawrence, KS | 08/20/2002
Paszkiewicz, Joseph Edward, Rialto, CA | 08/20/2002
Patterson, Carolyn E, Richmond, VA | 08/20/2002
Percifield, Brenda Sue, North Vernon, IN | 08/20/2002
Phillips, Kurt N, Anchorage, AK | 08/20/2002
Pollard, Joanna M, New London, CT | 08/20/2002
Powe, Leisa, Tylertown, MS | 08/20/2002
Powers, Gary Kent, Cullman, AL | 08/20/2002
Privett, Erin Elizabeth, Citrus Hgts, CA | 08/20/2002
Ragan, Angela Lynn, Yantis, TX | 08/20/2002
Rapp, Timothy J, Dayton, OH | 08/20/2002
Reed, Catherine Barbara, Denver, CO | 08/20/2002
Reid, Janniet L, Inglewood, CA | 08/20/2002
Renfrow, David, Ridgeland, MS | 08/20/2002
Reynolds-Bonilla, Elizabeth A, Salina, KS | 08/20/2002
Richmond, Eula Ann, Marion, KS | 08/20/2002
Ricke, Gregory A, Fort Collins, CO | 08/20/2002
Riley, Michele Beaumont, San Diego, CA | 08/20/2002
Rivene, Zaida, San Mateo, CA | 08/20/2002
Rivera, Tanya M, Sheffield, VT | 08/20/2002
Roberts, William K, Salt Lake City, UT | 08/20/2002
Rodriguez, Joe Vasquez, Ontario, CA | 08/20/2002
Roma, Donna K, Warwick, RI | 08/20/2002
Rondosh, Margie Leh, Hazleton, PA | 08/20/2002
Roney, George Dane, Evansville, IN | 08/20/2002
Roos, Nettie A, Iowa City, IA | 08/20/2002
Saltenberger, Patricia E, Farmington, NY | 08/20/2002
Schoonhoven, David Lee, Oostburg, WI | 08/20/2002
Schram, Thomas Alan, Homosassa, FL | 08/20/2002
Senick, Thomas Charles, Pittsburgh, PA | 08/20/2002
Serlemitsos, John Paul, Crownsville, MD | 08/20/2002
Sheets, Phyllis M, Elliston, VA | 08/20/2002
Silvas, George R, Porterville, CA | 08/20/2002
Slan, Steven M, Virginia Bch, VA | 08/20/2002
Slaughter, Maunetta, Ellisville, MS | 08/20/2002
Smith, Heath, Glennville, GA | 08/20/2002
Smith, Terri Dianne, Globe, AZ | 08/20/2002
Smith, Alphonso L, Woodbury, NJ | 08/20/2002
Soderstrom, Linnea A, Glastonbury, CT | 08/20/2002
Sommers, Lorin D, N Canton, OH | 08/20/2002
Springel, Ronald David, Spokane, WA | 08/20/2002
Strempel, Linda Beth, Hermosa Beach, CA | 08/20/2002
Sturckow, Karl H, Lakeside, CA | 08/20/2002
Sucarichi, Brenda, Pasadena, TX | 08/20/2002
Sykora, Viktor, W Coxsackie, NY | 08/20/2002
Tankersley, Jeanne Kay, Sapulpa, OK | 08/20/2002
Tate, Marian Kay, Murray, UT | 08/20/2002
Teed, Elspeth Ann, Uvalde, TX | 08/20/2002
Thomas, Billy R, Los Angeles, CA | 08/20/2002
Thompson, Paula Marie, Victoria, TX | 08/20/2002
Ticzon, Renato A, Watertown, NY | 08/20/2002
Trisdale, Sandra, Tucson, AZ | 08/20/2002
Vasso, Laura, Kearns, UT | 08/20/2002
Vespia, Susan M, Esmond, RI | 08/20/2002
Vierow, Morgen Lynn, Sherrill, NY | 08/20/2002
Vigil, Susan K Peace, Berea, KY | 08/20/2002
Walker, Robin Elaine, Austin, TX | 08/20/2002
Wangsgard, Mary M, Salt Lake City, UT | 08/20/2002
Wanke, Samantha G, Manlius, NY | 08/20/2002
Wariner, Andrew William, Houston, TX | 08/20/2002
Warren, Lauri Evelyn, Houston, TX | 08/20/2002
Watkins, Helen Colleluori, Wellsboro, PA | 08/20/2002
Watkins, Penny R, Meridian, MS | 08/20/2002
Waz, Danny James, Ontario, CA | 08/20/2002
Weghorn, Pamela Jane, Fridley, MN | 08/20/2002
White, Judith A, Putnam, CT | 08/20/2002
Wick, Rebecca L, Hallettsville, TX | 08/20/2002
Williams, Janson S, Erie, PA | 08/20/2002
Williams, R Michael, Troy, NY | 08/20/2002
Willing, Kathryn Marie, Sleepy Eye, MN | 08/20/2002
Wisely, Betty Anny, Bloomington, IN | 08/20/2002
Witriol, Sol, Baltimore, MD | 08/20/2002
Wojcik, Jeffery R, Tucson, AZ | 08/20/2002
Woods, Kenneth Bruce, Roseville, CA | 08/20/2002
Yacker, Tomi Lynn, Colleyville, TX | 08/20/2002
Ybarra, Robert A, Shasta, CA | 08/20/2002
Yellowhair, Robert Lanny, Tucson, AZ | 08/20/2002
Federal/State Exclusion/Suspension
Lazopoulos, George, McHenry, IL | 08/20/2002
Rinaldi, Serguis, Springfield, IL | 08/20/2002
Fraud/Kickbacks
Adams, Koule, Chicago, IL | 06/12/2002
Mejia, Gloria, Bryan, TX | 10/24/2000
Royal Transportation, Hazel Crest, IL | 06/12/2002
Thompson, Scott, Clayton, NC | 11/13/2001
Williams, Tommy E, Lytle, TX | 01/11/2001
Williams, Devon, Lytle, TX | 01/11/2001
Owned/Controlled by Convicted Entities
Edward J Urban, D O, INC, Cortland, OH | 08/20/2002
Express Medical Home Health, Los Angeles, CA | 08/20/2002
G & A Medical Clinic, Inc, Miami, FL | 08/20/2002
K & G Medical Supply, Glendale, CA | 08/20/2002
Professional Medical Ctr, Inc, Miami, FL | 08/20/2002
Sam's Drugs & Medical, Inc, Palm Harbor, FL | 08/20/2002
Default on Heal Loan
Chow, Aaron L, Spanaway, WA | 06/28/2002
Metcalf, John W, Tampa, FL | 06/19/2002
Urling, Wendell P, Cheshire, CT | 07/02/2002
Washington, Diane, S Holland, IL | 05/18/2002

Dated: August 1, 2002.
Calvin Anderson, Jr.,
Director, Health Care Administrative Sanctions, Office of Inspector General.

[FR Doc. 02-20425 Filed 8-12-02; 8:45 am]

BILLING CODE 4150-04-P